DEPARTMENT OF TRANSPORTATION

Federal Aviation Administration

14 CFR Part 39

[Docket No. FAA-2011-0044; Directorate Identifier 2010-NM-059-AD]

RIN 2120-AA64

Airworthiness Directives; The Boeing Company Model 767-200, -300, -300F, and -400ER Series Airplanes

AGENCY: Federal Aviation Administration (FAA), DOT.

ACTION: Notice of proposed rulemaking (NPRM).

SUMMARY: We propose to supersede an existing airworthiness directive (AD) that applies to The Boeing Company Model 767-200, -300, and -300F series airplanes. The existing AD currently requires inspections to detect cracking or corrosion of the fail-safe straps between the side fitting of the rear spar bulkhead at body station 955 and the skin; and follow-on and corrective actions. Since we issued that AD, we have received additional reports of cracks in 51 fail-safe straps on 41 airplanes; we have also received a report of a crack found in the “T” fitting that connects the fail-safe strap to the outboard edge of the pressure deck. This proposed AD would expand the applicability, and would add an inspection for cracking in the fail-safe strap, and repair or replacement if necessary. We are proposing this AD to detect and correct fatigue cracking or corrosion of the fail-safe straps and the “T” fittings, which could result in cracking of adjacent structure and consequent reduced structural integrity of the fuselage.

DATES: We must receive comments on this proposed AD by April 11, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue, SW., Renton, Washington 98057-3356; phone: 425-917-6577; fax: 425-917-6590; e-mail: berhane.alazar@faa.gov.

SUPPLEMENTARY INFORMATION:

Comments Invited

We invite you to send any written relevant data, views, or arguments about this proposed AD. Send your comments to an address listed under the ADDRESSES section. Include “Docket No. FAA-2011-0044; Directorate Identifier 2010-NM-059-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 26, 2005, we issued AD 2004-19-06 R1, amendment 39-14313 (70 FR 58000, October 5, 2005), for certain Model 767-200, -300, and -300F series airplanes. That AD requires inspections to detect cracking or corrosion of the fail-safe straps between the side fitting of the rear spar bulkhead at body station (BS) 955 and the skin; and follow-on/corrective actions. That AD resulted from reports of cracked and/or corroded fail-safe straps at BS 955 on Model 767-200 series airplanes. We issued that AD to detect and correct fatigue cracking or corrosion of the fail-safe straps, which could result in cracking of adjacent structure and consequent reduced structural integrity of the fuselage.

Actions Since Existing AD Was Issued

Since we issued AD 2004-19-06 R1, we have received additional reports of cracks in 51 fail-safe straps on 41 airplanes. There were 42 fail-safe straps repaired, and 9 were not repairable and were replaced. Fail-safe straps were repaired on 33 airplanes with total accumulated flight cycles ranging from 39,886 to 89,236. Fail-safe straps were replaced on 9 airplanes with flight cycles ranging from 12,565 to 31,809, and flight hours ranging from 48,704 to 93,212. In addition, 4 fail-safe straps on 4 airplanes with total accumulated flight cycles ranging from 12,540 to 23,987 and flight hours ranging from 37,634 to 74,823 were replaced due to corrosion damage.

One report was received of a crack found in the “T” fitting that connects the fail-safe strap and the pressure deck. The cracked “T” fitting was found at 13,449 total accumulated flight cycles and 74,008 flight hours, and was located at the lower of the 3 fastener holes common to the fail-safe strap.

Relevant Service Information

We reviewed Boeing Alert Service Bulletin 767-53A0100, Revision 1, dated August 11, 2006; and Revision 2, dated January 15, 2010. Revision 1 of this service bulletin both adds certain Model 767-400ER airplanes to the Effectivity, and removes other airplanes from the Effectivity, of Boeing Alert Service Bulletin 767-53A0100, dated September 26, 2002 (which is identified as the appropriate source of service information for accomplishing the actions specified in the existing AD). Revision 1 also adds procedures for an ultrasonic inspection and expands the inspection area for cracking and corrosion to an area within five inches of the fail-safe strap.

Revision 2 of this service bulletin adds an airplane that had been removed from the Effectivity of Revision 1 of this service bulletin. In addition, Revision 2 of this service bulletin adds procedures for a related investigative action for certain crack findings during the ultrasonic inspection specified in Revision 1 of this service bulletin. The related investigative action involves an open-hole HFEC inspection for cracking at the lower of three fastener holes common to the fail-safe strap and the “T” fitting, and repair if necessary. The repair includes various inspections (i.e., detailed, open-hole HFEC, and surface HFEC) for cracking and corrosion of the “T” fitting and adjacent structure; replacement of the “T” fitting with a new “T” fitting; repair of corrosion within specified limits; and replacement of the fail-safe strap with a new strap, if necessary. The service bulletin specifies to contact Boeing for certain repair and replacement procedures. Repairing the fail-safe strap or replacing the fail-safe strap with a strap having a revised edge configuration eliminates the need for the repetitive inspections only on the side of the airplane on which the corrective action is done.

For airplanes on which a fail-safe strap is replaced with a strap that does not have a revised edge configuration, the service bulletin describes procedures for detailed and surface HFEC inspections for cracks and corrosion of the fail-safe strap, and an ultrasonic inspection for cracks of the fail-safe strap.

FAA's Determination

We are proposing this AD because we evaluated all the relevant information and determined the unsafe condition described previously is likely to exist or develop in other products of these same type designs.

Proposed AD Requirements

This proposed AD would retain all of the requirements of AD 2004-19-06 R1. This proposed AD would expand the applicability statement of the existing AD. This proposed AD would also require accomplishing the actions specified in Revision 2 of the service information described previously, except as discussed under “Differences Between the Proposed AD and the Service Information.”

Differences Between the Proposed AD and the Service Information

The service bulletin specifies to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Changes to Existing AD

We have added a new paragraph (d) to this proposed AD to provide the Air Transport Association (ATA) of America subject code 53, Fuselage. This code is added to make this proposed AD parallel with other new AD actions. We have re-identified subsequent paragraphs accordingly.

We have revised the existing AD to identify the legal name of the manufacturer as published in the most recent type certificate data sheet for the affected airplane models.

Since AD 2004-19-06 R1 was issued, the AD format has been revised, and certain paragraphs have been rearranged. As a result, the corresponding paragraph identifiers have changed in this proposed AD, as listed in the following table:

Revised Paragraph Identifiers
Requirement in AD 2004-19-06 R1 | Corresponding requirement in this proposed AD
paragraph (d). | paragraph (e).
paragraph (e). | paragraph (f).
paragraph (f). | paragraph (g).
paragraph (g). | paragraph (h).

Costs of Compliance

We estimate that this proposed AD affects 390 airplanes of U.S. registry.

We estimate the following costs to comply with this proposed AD:

Estimated Costs
Action | Labor cost | Parts cost | Cost per product | Cost on U.S. operators
Inspection for Model 767-200, -300, and -300F airplanes (retained actions from existing AD) | 2 work-hours × $85 per hour = $170 per inspection cycle | $0 | $170 per inspection cycle. | $60,180 per inspection cycle.
New proposed inspections for all airplanes (new proposed action) | 2 work-hours × $85 per hour = $170 per inspection cycle | $0 | $170 per inspection cycle. | $66,300 per inspection cycle.

We estimate the following costs to do any necessary repairs/replacements that would be required based on the results of the proposed inspection. We have no way of determining the number of aircraft that might need these repairs/replacements:

On-condition costs
Action | Labor cost | Parts cost | Cost per product
Repair or replacement, Groups 1-7, 10, and 11 airplanes | 295 work-hours × $85 per hour = $25,075 | Between $9,054 and $15,837 | Between $34,129 and $40,912.
Repair or replacement, Groups 8 and 9 airplanes | 297 work hours × $85 per hour = $25,245 | Between $32,593 and $32,727 | Between $57,838 and $57,972.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-19-06 R1, Amendment 39-14313 (70 FR 58000, October 5, 2005), and adding the following new AD:

The Boeing Company: Docket No. FAA-2011-0044; Directorate Identifier 2010-NM-059-AD.

Comments Due Date

(a) The FAA must receive comments on this AD action by April 11, 2011.

Affected ADs

(b) This AD supersedes AD 2004-19-06 R1, Amendment 39-14313.

Applicability

(c) This AD applies to Model 767-200, -300, -300F, and -400ER series airplanes, certificated in any category; as identified in Boeing Alert Service Bulletin 767-53A0100, Revision 2, dated January 15, 2010.

Subject

(d) Joint Aircraft System Component (JASC)/Air Transport Association (ATA) of America Code 53, Fuselage.

Unsafe Condition

(e) This AD was prompted by additional reports of cracks in 51 fail-safe straps on 41 airplanes; we have also received a report of a crack found in the “T” fitting that connects the fail-safe strap to the outboard edge of the pressure deck. We are issuing this AD to detect and correct fatigue cracking or corrosion of the fail-safe straps and the “T” fittings, which could result in cracking of adjacent structure and consequent reduced structural integrity of the fuselage.

Compliance

(f) Comply with this AD within the compliance times specified, unless already done.

Requirements of AD 2004-19-06 R1, Amendment 39-14313: Inspections and Follow-On/Corrective Actions

(g) For Model 767-200, -300, and -300F series airplanes having line numbers 1 through 931 inclusive: Except as provided by paragraph (h) of this AD, prior to the accumulation of 15,000 total flight cycles, or within 3,000 flight cycles after November 1, 2004 (the effective date of AD 2004-19-06 R1, Amendment 39-14313), whichever occurs later, perform a detailed inspection and eddy current inspection to detect cracking or corrosion of the fail-safe straps between the side fitting of the rear spar bulkhead at body station (BS) 955 and the skin, per Figure 2 of the Accomplishment Instructions of Boeing Alert Service Bulletin 767-53A0100, dated September 26, 2002; or Boeing Alert Service Bulletin 767-53A0100, Revision 2, dated January 15, 2010. As of the effective date of this AD, use only Revision 2 of Boeing Alert Service Bulletin 767-53A0100. Doing the inspections required by paragraph (i) of this AD terminates the requirements of this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no crack or corrosion is found, repeat the inspections thereafter at intervals not to exceed 6,000 flight cycles or 36 months, whichever occurs first, until paragraph (i) of this AD is done.

(2) If any crack or corrosion is found, before further flight, repair per a method approved by the Manager, Seattle Aircraft Certification Office (ACO), FAA; or using a method approved in accordance with paragraph (o) of this AD.

(h) For airplanes identified in paragraph (g) of this AD on which the fail-safe strap has been replaced before November 1, 2004: Do the actions required by paragraph (g) of this AD within 12,000 flight cycles after accomplishing the replacement.

Note 2: Steps 2 and 8 of the Work Instructions of Boeing Alert Service Bulletin 767-53A0100, dated September 26, 2002, refer incorrectly to Boeing 767 Airplane Maintenance Manual (AMM) 32-00-20 for opening the MLG doors; the correct reference is Boeing 767 AMM 32-00-15, which is referred to in steps 3 and 7 of the Work Instructions. Step 2 also should state “Open Main Landing Gear (MLG) doors” instead of “Open Main Landing Green (MLG) doors.”

New Requirements of This AD With Revised Service Information: Repetitive Detailed and Eddy Current Inspections

(i) Prior to the accumulation of 15,000 total flight cycles, or within 3,000 flight cycles after the effective date of this AD, whichever occurs later: Perform detailed and eddy current inspections to detect cracking and/or corrosion of the fail-safe straps between the side fitting of the rear spar bulkhead at BS 955 and the skin, in accordance with the Accomplishment Instructions of Boeing Alert Service Bulletin 767-53A0100, Revision 2, dated January 15, 2010. If no crack or corrosion is found, repeat the inspections thereafter at intervals not to exceed 6,000 flight cycles or 36 months, whichever occurs first. Accomplishing the actions required by this paragraph ends the requirements of paragraphs (g) and (g)(1) of this AD.

Repetitive Ultrasonic Inspections

(j) Prior to the accumulation of 15,000 total flight cycles, or within 3,000 flight cycles after the effective date of this AD, whichever occurs later: Do an ultrasonic inspection of the fail-safe strap for cracking, and all applicable related investigative actions, in accordance with the Accomplishment Instructions of Boeing Alert Service Bulletin 767-53A0100, Revision 2, dated January 15, 2010. Do all applicable related investigative actions before further flight. If no crack is found, repeat the inspection thereafter at intervals not to exceed 6,000 flight cycles or 36 months, whichever occurs first.

Corrective Actions

(k) If any corrosion is found during any inspection required by paragraph (i) of this AD: Before further flight, repair the corrosion, in accordance with the Accomplishment Instructions of Boeing Alert Service Bulletin 767-53A0100, Revision 2, dated January 15, 2010.

(l) If any crack is found during any inspection required by paragraph (i) or (j) of this AD: Before further flight, repair in accordance with the Accomplishment Instructions of Boeing Alert Service Bulletin 767-53A0100, Revision 2, dated January 15, 2010; except where the service bulletin specifies to contact Boeing for appropriate action, before further flight, repair using a method approved in accordance with the procedures specified in paragraph (o) of this AD. Accomplishing the fail-safe strap trim repair in accordance with Boeing Alert Service Bulletin 767-53A0100, Revision 2, dated January 15, 2010, ends the repetitive inspections required by paragraphs (i) and (j) of this AD only on the side of the airplane where the repair was done. Replacing the fail-safe strap with a replacement strap that has the revised edge configuration in accordance with Boeing Alert Service Bulletin 767-53A0100, Revision 2, dated January 15, 2010, ends the repetitive inspections required by paragraphs (i) and (j) of this AD only on the side of the airplane where the replacement was done.

Post-Replacement Inspections

(m) For any replacement strap that does not have a revised edge configuration, as specified in Boeing Alert Service Bulletin 767-53A0100, Revision 2, dated January 15, 2010: Within 12,000 flight cycles after doing the replacement, accomplish the inspections required by paragraphs (i) and (j) of this AD. Repeat the inspections thereafter at intervals not to exceed 6,000 flight cycles or 36 months, whichever occurs first. Replacing the fail-safe strap with a replacement strap that has the revised edge configuration in accordance with Boeing Alert Service Bulletin 767-53A0100, Revision 2, dated January 15, 2010, ends the repetitive inspections required by paragraphs (i) and (j) of this AD only on the side of the airplane where the replacement was done.

Credit for Actions Accomplished in Accordance With Previous Service Information

(n) Actions accomplished before the effective date of this AD in accordance with Boeing Alert Service Bulletin 767-53A0100, Revision 1, dated August 11, 2006, are considered acceptable for compliance with the corresponding actions specified in this AD.

Alternative Methods of Compliance (AMOCs)

(o)(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and 14 CFR 25.571, Amendment 45, and the approval must specifically refer to this AD.

(4) AMOCs approved for AD 2004-19-06 and AD 2004-19-06 R1 are approved as AMOCs for paragraphs (g) and (h) of this AD, as applicable.

Related Information

(p) For more information about this AD, contact Berhane Alazar, Aerospace Engineer, Airframe Branch, ANM-120S, FAA, Seattle ACO, 1601 Lind Avenue, SW., Renton, Washington 98057-3356; phone: (425) 917-6577; fax: (425) 917-6590; e-mail: berhane.alazar@faa.gov.

(q) For service information identified in this AD, contact Boeing Commercial Airplanes, Attention: Data & Services Management, P.O. Box 3707, MC 2H-65, Seattle, Washington 98124-2207; phone: 206-544-5000, extension 1; fax: 206-766-5680; e-mail: me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on February 15, 2011.
Kalene C. Yanamura,
Acting Manager, Transport Airplane Directorate, Aircraft Certification Service.

[FR Doc. 2011-4200 Filed 2-23-11; 8:45 am]

BILLING CODE 4910-13-P